DEPARTMENT OF THE INTERIOR

Bureau of Land Management

[NV-920-1330-GEOT-FI]

Classification; Salt Wells Known Geothermal Resources Area, NV

AGENCY: Bureau of Land Management, Interior.

ACTION: Classification of the Salt Wells Known Geothermal Resources Area, Nevada.

SUMMARY: This notice alerts the public that the Bureau of Land Management has expanded the size of the Salt Wells Known Geothermal Resources Area by 1,280 acres.

EFFECTIVE DATE: July 1, 2002.

FOR FURTHER INFORMATION CONTACT: Rich Hoops, BLM Nevada State Office, P.O. Box 12000, Reno, Nevada 89520-0006, 775-861-6568.

SUPPLEMENTARY INFORMATION: Under the Secretary of the Interior's authority contained in Sec. 21(a) of the Geothermal Steam Act of 1970 (84 Stat. 1566, 1572; 30 U.S.C. 1020) we are expanding the boundaries of the Salt Wells Known Geothermal Resources Area by 1,280 acres to include:

Mt. Diablo Meridian, Nevada

T. 17 N., R. 30 E.

Secs. 35, 36

The description of the entire Salt Wells Known Geothermal Area is now as shown below:

Nevada

Salt Wells Known Geothermal Resources Area

Mt. Diablo Meridian, Nevada

T. 17 N., R. 30 E.

Secs. 23-26, 35, 36.

The above area aggregates 3,840.00 acres, more or less.

Dated: July 31, 2002.
Gail Acheson,
Acting State Director, Nevada.

[FR Doc. 02-22390 Filed 8-30-02; 8:45 am]

BILLING CODE 4310-HC-P